DEPARTMENT OF TRANSPORTATION

Federal Aviation Administration

Notice of Release of Land Affecting Federal Grant Assurance Obligations at Tucson International Airport, Tucson, Pima County, Arizona

AGENCY: Federal Aviation Administration, DOT.

ACTION: Notice of request to release airport land.

SUMMARY: The Federal Aviation Administration (FAA) proposes to rule and invites public comment for the release of approximately 297 acres of airport land, otherwise known as Parcel H, at Tucson International Airport (TUS), Tucson, Pima County, Arizona from the aeronautical use provisions of the Grant Agreement Assurances since the land is not needed for airport purposes. The land for proposed release consists of two parcels along the southern boundary of the abandoned Hughes Access Road, adjacent to the main airport airfield sand campus, and a portion of property which is used by Aerospace Parkway. The land will be sold to the City of Tucson, to accommodate future expansion of a public roadway, and to permit future compatible development adjacent to United States Air Force Plant 44. The airport will be compensated for the fair market value of the land. The use of the land for a roadway and industrial development represents a compatible land use that will not interfere with the airport or its operation, thereby protecting the interests of civil aviation.

DATES: Comments must be received on or before December 9, 2019.

FOR FURTHER INFORMATION CONTACT: Comments on the request may be mailed or delivered to the FAA at the following address: Mr. Mike N. Williams, Manager, Phoenix Airports District Office, Federal Register Comment, Federal Aviation Administration, Phoenix Airports District Office, 3800 N. Central Avenue, Suite 1025, Phoenix, Arizona 85012. In addition, one copy of the comment submitted to the FAA must be mailed or delivered to Ms. Danette Bewley, Interim President/CEO, Tucson Airport Authority, 7200 S. Tucson Boulevard, Suite 300, Tucson, Arizona 85756.

SUPPLEMENTARY INFORMATION: In accordance with the Wendell H. Ford Aviation Investment and Reform Act for the 21st Century (AIR 21), Public Law 10-181 (Apr. 5, 2000; 114 Stat. 61), this notice must be published in the Federal Register 30 days before the DOT Secretary may waive any condition imposed on a federally obligated airport by surplus property conveyance deeds or grant agreements.

The following is a brief overview of the request:

The Tucson Airport Authority (TAA) requested a release from the provisions of the Grant Agreement Assurances to permit the disposal of approximately 297 acres of land, otherwise known as Parcel H, at Tucson International Airport, Tucson, Pima County, Arizona to permit the expansion of a public road (Aerospace Parkway), and to permit future compatible development adjacent to United States Air Force Plant 44. The Tucson Airport Authority will sell the land, obligated by Airport Improvement Program grants, and Passenger Facility Charge funding. In return, TAA will be compensated for the fair market value for the property. An Environmental Impact Statement was completed for Parcel H, and a Record of Decision executed on November 28, 2018. The proposed use of the land is a compatible land use that will not interfere with or impede the operations and development of the airport. Based on the benefits of fair compensation and enhanced public safety, the interests of civil aviation will be properly served.

Issued in El Segundo, California, on November 4, 2019.
Original signed by
Brian Q. Armstrong,
Manager, Safety and Standards Branch, Airports Division, Western-Pacific Region.

[FR Doc. 2019-24452 Filed 11-7-19; 8:45 am]

BILLING CODE 4910-13-P